COMMITTEE FOR PURCHASE FROM PEOPLE WHO ARE BLIND OR SEVERELY DISABLED

Procurement List, Additions and Deletions

AGENCY: Committee for Purchase From People Who Are Blind or Severely Disabled.

ACTION: Additions to and Deletions from the Procurement List.

SUMMARY: This action adds products and a service to the Procurement List that will be furnished by nonprofit agencies employing persons who are blind or have other severe disabilities, and deletes services from the Procurement List previously provided by such agencies.

DATES: Effective Date: 9/16/2013.

ADDRESSES: Committee for Purchase From People Who Are Blind or Severely Disabled, 1401 S. Clark Street, Suite 10800, Arlington, Virginia, 22202-4149.

FOR FURTHER INFORMATION CONTACT: Barry S. Lineback, Telephone: (703) 603-7740, Fax: (703) 603-0655, or email CMTEFedReg@AbilityOne.gov.

SUPPLEMENTARY INFORMATION:

Additions

On 6/7/2013 (78 FR 34350-34351); 6/14/2013 (78 FR 35874-35875); 6/21/2013 (78 FR 37524-37525); and 6/28/2013 (78 FR 38952-38953), the Committee for Purchase From People Who Are Blind or Severely Disabled published notices of proposed additions to the Procurement List.

After consideration of the material presented to it concerning capability of qualified nonprofit agencies to provide the products and service and impact of the additions on the current or most recent contractors, the Committee has determined that the products and service listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the products and service to the Government.

2. The action will result in authorizing small entities to furnish the products and service to the Government.

3. There are no known regulatory alternatives which would accomplish the objectives of the Javits-Wagner-O'Day Act (41 USC 8501-8506) in connection with the products and service proposed for addition to the Procurement List.

End of Certification

Accordingly, the following products and service are added to the Procurement List:

Products

Cover, Certificate-Document, Gold Foil Stamped

NSN: 7510-01-519-5770—Black.

NSN: 7510-01-519-5771—Blue.

NPA: Dallas Lighthouse for the Blind, Inc., Dallas, TX.

Contracting Activity: GENERAL SERVICES ADMINISTRATION, NEW YORK, NY.

COVERAGE: A-List for the Total Government Requirement as aggregated by the General Services Administration.

NSN: 8020-00-NIB-0050—Utility Knife, Snap Off Blade, Standard Duty, 9mm.

NSN: 8020-00-NIB-0052—Utility Knife, Snap Off Blade, Heavy Duty, 18mm.

NSN: 8020-00-NIB-0058—Snap Off Blades, Replacement, Utility Knife, Heavy Duty, 18mm, 8pt.

COVERAGE: A-List for the Total Government Requirement as aggregated by the General Services Administration.

NSN: 8020-00-NIB-0006—Trimmer, Edge, Paint, Refillable, 4 ¾″ W × 3 ½″ H.

NSN: 8020-00-NIB-0008—Refill Pads, Trimmer, Edge.

NSN: 8020-00-NIB-0044—Brush, Synthetic Filament, Flexible Handle, Ergonomic, 2″.

NSN: 8020-00-NIB-0045—Brush, Synthetic Filament, Recycled Handle, 2″.

NSN: 8020-00-NIB-0046—Brush, Synthetic Filament, Recycled Handle, 1.5″.

NSN: 8020-00-NIB-0051—Utility Knife, Snap Off Blade, Standard Duty, 18mm.

NSN: 8020-00-NIB-0053—Utility Knife, Snap Off Blade, Cushion Grip, Ergonomic, Heavy Duty, 18mm.

NSN: 8020-00-NIB-0054—Utility Knife, Snap Off Blade, Cushion Grip, Ergonomic, Heavy Duty, 25mm.

NSN: 8020-00-NIB-0055—Utility Knife, Retractable, Cushion Grip, Ergonomic, Heavy Duty, 2 pt Blade.

NSN: 8020-00-NIB-0056—Snap Off Blades, Replacement, Utility Knife, Standard Duty, 9mm, 13 pt.

NSN: 8020-00-NIB-0057—Snap Off Blades, Replacement, Utility Knife, Standard Duty, 18mm, 8pt.

NSN: 8020-00-NIB-0059—Snap Off Blades, Replacement, Utility Knife, Heavy Duty, 25mm, 7pt.

NSN: 8020-00-NIB-0060—Replacement Blades, Utility Knife.

COVERAGE: B-List for the Broad Government Requirement as aggregated by the General Services Administration.

NPA: Industries for the Blind, Inc., West Allis, WI.

Contracting Activity: GENERAL SERVICES ADMINISTRATION, TOOLS ACQUISITION DIVISION I, KANSAS CITY, MO.

NSN: MR 10623—Container, Frozen Waffle, Expandable.

NSN: MR 10627—Garden Seed Packets, Assorted, 4PK.

NPA: Winston-Salem Industries for the Blind, Inc., Winston-Salem, NC.

Contracting Activity: DEFENSE COMMISSARY AGENCY, FORT LEE, VA.

COVERAGE: C-List for the requirements of military commissaries and exchanges as aggregated by the Defense Commissary Agency.

NSN: 7510-00-NIB-9832—Portable Desktop Clipboard, 10″ W × 2-⅗″ D × 16″ H, Black.

NSN: 7510-00-NIB-9833—Portable Desktop Clipboard, 10″ W × 2-⅗″ D × 16″ H, Blue.

NSN: 7510-00-NIB-9851—Portable Desktop Clipboard with Calculator, 10″ W × 2-⅗″ D × 16″ H, Black.

NSN: 7510-00-NIB-9852—Portable Desktop Clipboard with Calculator, 10″ W × 2-⅗″ D × 16″ H, Blue.

COVERAGE: A-List for the Total Government Requirement as aggregated by the General Services Administration.

NSN: 7510-00-NIB-9834—Portable Desktop Clipboard, 10″ W × 2-⅗″ D × 16″ H, Army Green.

NSN: 7510-00-NIB-9853—Portable Desktop Clipboard with Calculator, 10″ W × 2-⅗″ D × 16″ H, Army Green.

COVERAGE: B-List for the Broad Government Requirement as aggregated by the General Services Administration.

NPA: L.C. Industries for the Blind, Inc., Durham, NC.

Contracting Activity: GENERAL SERVICES ADMINISTRATION, NEW YORK, NY.

Service

Service Type/Location: Mail Distribution Service, NASA, John F. Kennedy Space Center, Mail Stop: OP-OS, Kennedy Space Center, FL.

NPA: Anthony Wayne Rehabilitation Center for Handicapped and Blind, Inc., Fort Wayne, IN.

Contracting Activity: NATIONAL AERONAUTICS AND SPACE ADMINISTRATION, KENNEDY SPACE CENTER, KENNEDY SPACE CENTER, FL.

Deletions

On 6/28/2013 (78 FR 38952-38953), the Committee for Purchase From People Who Are Blind or Severely Disabled published notice of proposed deletions from the Procurement List.

After consideration of the relevant matter presented, the Committee has determined that the services listed below are no longer suitable for procurement by the Federal Government under 41 USC 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to provide the services to the Government.

3. There are no known regulatory alternatives which would accomplish the objectives of the Javits-Wagner-O'Day Act (41 USC 8501-8506) in connection with the services deleted from the Procurement List.

End of Certification

Accordingly, the following services are deleted from the Procurement List:

Services

Service Types/Location: Janitorial/Custodial Service, Grounds Maintenance Service, U.S. Army Reserve Center, 3315 9th Street, Wichita Falls, TX.

NPAs: North Texas State Hospital, Wichita Falls, TX; Work Services Corporation, Wichita Falls, TX.

Contracting Activity: DEPT OF THE ARMY, W6QM MICC-FT HUNTER (RC-W), MONTEREY, CA.

Service Type/Location: Janitorial/Custodial Service, U.S. Federal Building, Courthouse and Post Office, Third and Sharkey Street, Clarksdale, MS.

NPA: UNKNOWN.

Contracting Activity: GENERAL SERVICES ADMINISTRATION, FPDS AGENCY COORDINATOR, WASHINGTON, DC.

Barry S. Lineback,
Director, Business Operations.

[FR Doc. 2013-19944 Filed 8-15-13; 8:45 am]

BILLING CODE 6353-01-P